COMMITTEE FOR PURCHASE FROM PEOPLE WHO ARE BLIND OR SEVERELY DISABLED

Procurement List Proposed Additions and Deletions

AGENCY: Committee for Purchase From People Who Are Blind or Severely Disabled.

ACTION: Proposed Additions to and Deletions From the Procurement List.

SUMMARY: The Committee is proposing to add products and services to the Procurement List that will be furnished by nonprofit agencies employing persons who are blind or have other severe disabilities, and deletes services previously provided by such agencies.

Comments Must Be Received on or Before: June 13, 2011.

ADDRESSES: Committee for Purchase From People Who Are Blind or Severely Disabled, Jefferson Plaza 2, Suite 10800, 1421 Jefferson Davis Highway, Arlington, Virginia 22202-3259.

For Further Information or to Submit Comments Contact: Barry S. Lineback, Telephone: (703) 603-7740, Fax: (703) 603-0655, or e-mail CMTEFedReg@AbilityOne.gov.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to Procurement List for production by the nonprofit agencies listed:

Products

NSN: 7530-00-NIB-1028—Dated 18-month Paper Wall Planner, 24″ × 37″

NSN: 7530-00-NIB-1029—Dated 12-Month 2-Sided Laminated Wall Planner, 24″ × 37″

NPA: The Chicago Lighthouse for People Who Are Blind or Visually Impaired, Chicago, IL

Contracting Activity: GSA/FSS Household and Industrial Furniture, Arlington, VA.

Coverage: A-List for the Total Government Requirement as Aggregated by the General Services Administration.

Services

Service Type/Locations: Janitorial Services, Norman Armed Force Reserve Center (AFRC), Norman, OK; Mustang Armed Force Reserve Center (AFRC), Mustang, OK.

NPA: Dale Rogers Training Center, Inc., Oklahoma City, OK.

Contracting Activity: Dept of the Army, W7NV USPFO Activity OK ARNG, Oklahoma City, OK

Deletions

Regulatory Flexibility Act Certification

I certify that the following action will not have a significant impact on a substantial number of small entities. The major factors considered for this certification were:

1. If approved, the action will not result in additional reporting, recordkeeping or other compliance requirements for small entities.

2. If approved, the action may result in authorizing small entities to provide the services to the Government.

3. There are no known regulatory alternatives which would accomplish the objectives of the Javits-Wagner-O'Day Act (41 U.S.C. 46-48c) in connection with the services proposed for deletion from the Procurement List.

End of Certification

The following services are proposed for deletion from the Procurement List:

Services

Service Type/Location: Records Management Service, Veterans Affairs Medical Center, 4100 West 3rd Street, Dayton, OH.

NPA: Goodwill Easter Seals Miami Valley, Dayton, OH.

Contracting Activity: Department of Veterans Affairs, Dayton, OH.

Service Type/Location: Grounds Maintenance, Federal Service Center, 5600 Rickenbacker Road, Bell, CA.

NPA: Braswell Rehabilitation Institute for Development of Growth & Educational Services, Inc., Pomona, CA.

Contracting Activity: General Services Administration, FPDS Agency Coordinator, Washington, DC.

Service Type/Location: Janitorial/Custodial, U.S. Army Reserve Center: Major Bias, Huntington, WV.

NPA: Goodwill Industries of KYOWVA Area, Inc., Huntington, WV.

Contracting Activity: Dept. of the Army, W40M NATL Region Contract OFC, Washington, DC.

Barry S. Lineback,
Director, Business Operations.

[FR Doc. 2011-11816 Filed 5-12-11; 8:45 am]

BILLING CODE 6353-01-P